DEPARTMENT OF DEFENSE

Department of the Air Force

Global Positioning System Joint Program Office

AGENCY: Department of the Air Force, DoD.

ACTION: Notice of meeting.

SUMMARY: This notice informs the public that the Global Positioning System (GPS) Joint Program Office (JPO) will be hosting a technical working group meeting to discuss the new Improved Clock and Ephemeris (ICE) message. ICE message is the new GPS navigation data that will replace the current clock and ephemeris data as indicated in section 30.3.2 of previously released PIRN-200C-007B. The meeting will be a technical working group discussion that will address all aspects of ICE including specific data format, data requirements, data application and related equations, message format, user receiver needs/implications, and any issues or concerns with ICE. In order to better prepare for the meeting, the GPS JPO requests email notification from all those planning to participate in the meeting. Please submit your name, organization, and contact information to smc.czerc@losangeles.af.mil and include the words, “ICE Working Group Attendee” in the subject line of your email. More information will be posted on the GPS JPO public web site: http://gps.losangeles.af.mil. Click on “Public Interface Control Working Group (ICWG).”

DATES: February 12, 2003, 0800-1700.

ADDRESSES: Los Angeles AFB, Bldg 120, Daedalian Room (in “The Club”).

FOR FURTHER INFORMATION CONTACT: CZERC, GPS JPO System Engineering Division via email at smc.czerc@losangeles.af.mil or at 1-310-363-6329.

SUPPLEMENTARY INFORMATION: The civilian and military communities use the Global Positioning System, which employs a constellation of 24 satellites to provide continuously transmitted signals to enable appropriately configured GPS user equipment to produce accurate position, navigation and time information.

Pamela D. Fitzgerald,
Air Force Federal Register Liaison Officer.

[FR Doc. 03-2634 Filed 2-4-03; 8:45 am]

BILLING CODE 5001-5-P